DEPARTMENT OF HEALTH AND HUMAN SERVICES

National Institutes of Health

Notice Correction; Collection of Customer Service, Demographic, and Smoking/Tobacco Use Information from NCI Cancer Information Service (CIS) Clients (NCI)

The Federal Register notices published on May 1, 2009 (74 FR 20320) and July 1, 2009 (74 FR 31445) announcing the submission to OMB of the project titled, “Collection of Customer Service, Demographic, and Smoking/Tobacco Use Information from NCI Cancer Information Service (CIS) Clients (NCI)” was submitted with errors. The “Type of Information Collection Request” was incorrectly listed as a revision. This submission should be considered an extension. Additionally, the total annual burden hours was reported as 2,524 hours. Instead, the estimated total annual burden is 2,492 hours.

Dated: July 1, 2009.
Vivian Horovitch-Kelley,
NCI Project Clearance Liaison, National Institutes of Health.

[FR Doc. E9-15955 Filed 7-2-09; 8:45 am]

BILLING CODE 4140-01-P